DEPARTMENT OF HOMELAND SECURITY

Federal Emergency Management Agency

[Docket ID FEMA-2007-0008]

National Advisory Council; Meeting

AGENCY: Federal Emergency Management Agency, Department of Homeland Security.

ACTION: Notice of open Federal advisory committee meeting.

SUMMARY: The Federal Emergency Management Agency's National Advisory Council (NAC) will meet on September 26-28, 2023. The meeting will be open to the public through virtual means and in-person in the downtown area of Salt Lake City, Utah.

DATES: The NAC plans to meet and invite the public to observe and participate by virtual and in-person means from 9:00 a.m. to 3:00 p.m. Mountain Time (MT) on Tuesday, September 26; from 9:00 a.m. to 5:00 p.m. MT on Wednesday, September 27; and from 10:00 a.m. to 12:00 p.m. MT on Thursday, September 28. Please note that the meeting will pause for breaks and can continue past the scheduled end time or may end early any day that the NAC has completed its business.

ADDRESSES: Anyone who wishes to participate must register with FEMA in advance by providing their name, official title, organization, telephone number, email address and desired attendance means to the person listed in the FOR FURTHER INFORMATION CONTACT section below by 3:00 p.m. MT on Friday, September 22. Registering participants must specify whether their attendance will be virtual or in-person. If virtual attendance is indicated, links to attend by virtual means will be provided for each day by registration confirmation email. If in-person attendance is indicated, the meeting location (in the downtown area of Salt Lake City, Utah) will be provided in a registration confirmation email. Members of the public are urged to provide written comments on the issues to be considered by the NAC. The topic areas are indicated in the SUPPLEMENTARY INFORMATION section below. Any written comments must be submitted and received by 3:00 p.m. MT on Friday, September 22, identified by Docket ID FEMA-2007-0008, and submitted via the Federal eRulemaking Portal at http://www.regulations.gov, following the instructions for submitting comments below.

Instructions for Submitting Comments: All submissions must include the words “Federal Emergency Management Agency” and the docket number (Docket ID FEMA-2007-0008) for this action. Comments received, including any personal information provided, will be posted without alteration at http://www.regulations.gov. For access to the docket or to read comments received by the NAC, go to http://www.regulations.gov, and search for Docket ID FEMA-2007-0008.

Open public comment periods are anticipated on Tuesday, September 26, from 2:30 p.m. to 2:45 p.m. MT; on Wednesday, September 27, from 5:00 p.m. to 5:15 p.m. MT; and on Thursday, September 28, from 12:45 p.m. to 1:00 p.m. MT. All speakers must register in advance of the meeting to make remarks during the open public comment period and must limit their comments to 3 minutes. Comments should be addressed to the NAC. Any comments unrelated to the agenda topics will not be considered. Opportunities for public comments during meeting deliberations and voting, limited to 1 minute per instance and directed to the current topic, are offered by the Designated Federal Officer as time permits on Tuesday, September 26, from 10:00 a.m. to 3:00 p.m. MT; and Thursday, September 28, from 10:00 a.m. to 12:00 p.m. MT. To register to make remarks during the public comment period, contact the person listed in the FOR FURTHER INFORMATION CONTACT section below by 3:00 p.m. MT on Friday, September 22. Please note that the public comment periods may end before the time indicated, following the last call for comments.

The NAC is committed to ensuring all participants have equal access regardless of disability status. If you require a reasonable accommodation due to a disability to fully participate, please contact the individual listed in the FOR FURTHER INFORMATION CONTACT section below as soon as possible. Last-minute requests will be accepted but may not be possible to fulfill.

FOR FURTHER INFORMATION CONTACT: Rob Long, Designated Federal Officer, Office of the National Advisory Council, Federal Emergency Management Agency, 500 C St. SW, Washington, DC 20472-3184, 202-716-4612, FEMA-NAC@fema.dhs.gov. The NAC website is https://www.fema.gov/about/offices/national-advisory-council.

SUPPLEMENTARY INFORMATION: Notice of this meeting is given under the Federal Advisory Committee Act, 5 U.S.C. ch. 10.

The NAC advises the FEMA Administrator on all aspects of emergency management. The NAC incorporates input from State, local, Tribal, and territorial governments, and the private sector in the development and revision of FEMA plans and strategies. The NAC includes a cross-section of officials, emergency managers, and emergency response providers from State, local, Tribal, and territorial governments, the private sector, and nongovernmental organizations.

Agenda: On Tuesday, September 26, NAC subcommittees will present to the full NAC on their final annual recommendations regarding the 2022-2026 FEMA Strategic Plan and related goals and objectives; available for review at https://www.fema.gov/about/strategic-plan. On Wednesday, September 27, the NAC will meet with FEMA leadership in the morning and in the afternoon host panel discussions on disaster insurance and seismic preparations. On Thursday, September 28, the NAC will vote on adoption of the NAC 2023 Draft Recommendations.

The full agenda and available preparatory materials for this meeting will be available at https://www.fema.gov/about/offices/national-advisory-council by Wednesday, September 20, or by contacting the person listed in the FOR FURTHER INFORMATION CONTACT section.

Deanne Criswell
Administrator, Federal Emergency Management Agency.

[FR Doc. 2023-19271 Filed 9-6-23; 8:45 am]

BILLING CODE 9111-48-P